NATIONAL FOUNDATION ON THE ARTS AND THE HUMANITIES

Institute of Museum and Library Services

Notice of Proposed Information Collection Requests: 2025-2027 IMLS National Leadership Grants for Museums and IMLS Museums for America Program Notices of Funding Opportunity

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. By this Notice, IMLS is soliciting comments concerning the Notices of Opportunity for two grant programs targeting the needs of museums nationwide: IMLS National Leadership Grants for Museums and IMLS Museums for America Program. A copy of the proposed information collection request can be obtained by contacting the individual listed below in the ADDRESSES section of this Notice.

DATES: Written comments must be submitted to the office listed in the addressee section below on or before May 19, 2024.

ADDRESSES: Send comments to Sandra Narva, Senior Grants Management Specialist—Team Lead, Office of Grants Policy and Management, Institute of Museum and Library Services, 955 L'Enfant Plaza North SW, Suite 4000, Washington, DC 20024-2135. Ms. Narva can be reached by telephone: 202-653-4634, or by email at snarva@imls.gov. Office hours are from 8:30 a.m. to 5 p.m., E.T., Monday through Friday, except federal holidays. Persons who are deaf or hard of hearing (TTY users) can contact IMLS at 202-207-7858 via 711 for TTY-Based Telecommunications Relay Service.

FOR FURTHER INFORMATION CONTACT: For the IMLS National Leadership for Museums Program, contact Helen Wechsler, Supervisory Grants Management Specialist, Office of Museum Services, Institute of Museum and Library Services, 955 L'Enfant Plaza North SW, Suite 4000, Washington DC 20024-2135. Ms. Wechsler can be reached by telephone at 202-653-4779, or by email at hwechsler@imls.gov. For the IMLS Museums for America Program, contact Mark Feitl, Senior Program Officer, Office of Museum Services, Institute of Museum and Library Services, 955 L'Enfant Plaza North SW, Suite 4000, Washington, DC 20024-2135. Mr. Feitl can be reached by telephone at 202-653-4635, or by email at mfeitl@imls.gov. Persons who are deaf or hard of hearing (TTY users) can contact IMLS at 202-207-7858 via 711 for TTY-Based Telecommunications Relay Service.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

IMLS is the primary source of Federal support for the Nation's libraries and museums. We advance, support, and empower America's museums, libraries, and related organizations through grant making, research, and policy development. To learn more, visit www.imls.gov.

II. Current Actions

The goal of IMLS National Leadership Grants for Museums is to support projects that address critical needs of the museum field and that have the potential to advance practice in the profession so that museums can improve services for the American public. The goal of IMLS Museums for America Program is to support projects that strengthen the ability of an individual museum to serve its public. It has three project categories: Lifelong Learning, Community Engagement, and Collections Stewardship and Access. This action is to renew the content, forms, and instructions for each of the two Notices of Funding Opportunity for the next three years.

Agency: Institute of Museum and Library Services.

Title: 2025-2027 IMLS National Leadership Grants for Museums and IMLS Museums for America Program Notices of Funding Opportunity.

OMB Number: 3137-0094.

Respondents/Affected Public: Museum organization applicants.

Total Estimated Number of Annual Respondents: 395.

Frequency of Response: Once per year.

Estimated Average Burden Hours per Response: 50.

Total Estimated Number of Annual Burden Hours: 18,325.

Total Annual Cost Burden: $594,647.

Total Annual Federal Costs: $61,210.

Public Comments Invited: Comments submitted in response to this Notice will be summarized and/or included in the request for OMB's clearance of this information collection.

Dated: March 15, 2024.
Suzanne Mbollo,
Grants Management Specialist, Institute of Museum and Library Services.

[FR Doc. 2024-05921 Filed 3-19-24; 8:45 am]

BILLING CODE 7036-01-P